NATIONAL SCIENCE FOUNDATION

Proposal Review Panel for Physics; Notice of Meeting

In accordance with the Federal Advisory Committee Act (Pub. L. 92-463, as amended), the National Science Foundation (NSF) announces the following meeting:

Name and Committee Code: Proposal Review Panel for Physics (#1208)—ZEUS Virtual Site Visit.

Date and Time: May 17, 2021; 10:00 a.m.-6:00 p.m.; May 18, 2021; 10:00 a.m.-3:00 p.m.

Place: University of Michigan, 3003 S Street, Ann Arbor, MI 48109-1274 | Virtual.

Type of Meeting: Part-Open.

Contact Person: Vyacheslav Lukin, Program Director, Division of Physics, National Science Foundation, 2415 Eisenhower Avenue, Room 9226, Alexandria, VA 22314; Telephone: (703) 292-7382.

Purpose of Meeting: Virtual site visit to provide an evaluation of the progress of the projects at the host site for the Division of Physics at the National Science Foundation.

Agenda

May 17, 2021

10:00 a.m.-10:20 a.m. Executive Session CLOSED

10:20 a.m.-10:30 a.m. Introductions

10:30 a.m.-11:20 a.m. ZEUS Facility Overview

11:20 a.m.-11:50 a.m. ZEUS Science Justification

11:50 a.m.-12:30 p.m. ZEUS Construction Status

12:30 p.m.-1:15 p.m. Executive Session/Break CLOSED

1:15 p.m.-2:00 p.m. ZEUS Operation Model Overview

2:00 p.m.-2:15 p.m. ZEUS Management Plan

2:15 p.m.-2:45 p.m. ZEUS Science Operations

2:45 p.m.-3:15 p.m. ZEUS Maintenance & Upgrades

3:15 p.m.-3:30 p.m. Executive Session/Break CLOSED

3:30 p.m.-4:15 p.m. ZEUS User Services & Metrics

4:15 p.m.-5:00 p.m. Executive Session CLOSED

5:45 p.m.-6:00 p.m. Critical Feedback to the ZEUS Leadership & list of questions that require written answers & clarification on Day 2

May 18, 2021

10:00 a.m.-10:45 a.m. Meeting with UM Administration

10:45 a.m.-11:45 a.m. ZEUS responses to the Critical Feedback

11:45 a.m.-12:00 p.m. Final comments

12:00 p.m.-3:00 p.m. Site Visit Report CLOSED

Reason for Closing: The work being reviewed during closed portions of the virtual site visit include information of a proprietary or confidential nature, including technical information; financial data, such as salaries and personal information concerning individuals associated with the project. These matters are exempt under 5 U.S.C. 552b(c), (4) and (6) of the Government in the Sunshine Act.

Dated: March 22, 2021.
Crystal Robinson,
Committee Management Officer.

[FR Doc. 2021-06220 Filed 3-25-21; 8:45 am]

BILLING CODE 7555-01-P